DEPARTMENT OF COMMERCE

National Oceanic and Atmospheric Administration

[RTID: 0648-XB176]

Mid-Atlantic Fishery Management Council (MAFMC); Meeting

AGENCY: National Marine Fisheries Service (NMFS), National Oceanic and Atmospheric Administration (NOAA), Commerce.

ACTION: Notice; public meeting.

SUMMARY: The Mid-Atlantic Fishery Management Council's Tilefish Monitoring Committee will hold a public meeting.

DATES: The meeting will be held on Thursday, July 22, 2021; from 9:00 a.m. to 11:00 a.m. For agenda details, see SUPPLEMENTARY INFORMATION.

ADDRESSES: The meeting will be held via webinar. Webinar connection information will be available at: https://www.mafmc.org/council-events.

Council address: Mid-Atlantic Fishery Management Council, 800 N State Street, Suite 201, Dover, DE 19901; telephone: (302) 674-2331 or on their website at www.mafmc.org.

FOR FURTHER INFORMATION CONTACT: Christopher M. Moore, Ph.D., Executive Director, Mid-Atlantic Fishery Management Council, telephone: (302) 526-5255.

SUPPLEMENTARY INFORMATION: The purpose of the meeting is for the Tilefish Monitoring Committee to review and possibly revise the 2022 annual catch limits, trip limits, discard estimates, and other management measures for the golden tilefish fishery, and to set new specifications for the golden tilefish fishery for 2023 and 2024.

The meeting is physically accessible to people with disabilities. Requests for sign language interpretation or other auxiliary aid should be directed to Kathy Collins, (302) 526-5253, at least 5 days prior to the meeting date.

Dated: June 15, 2021.
Tracey L. Thompson,
Acting Deputy Director, Office of Sustainable Fisheries, National Marine Fisheries Service.

[FR Doc. 2021-13321 Filed 6-23-21; 8:45 am]

BILLING CODE 3510-22-P